SMALL BUSINESS ADMINISTRATION

Reporting and Recordkeeping Requirements Under OMB Review

AGENCY: Small Business Administration.

ACTION: 30-Day notice.

SUMMARY: The Small Business Administration (SBA) is publishing this notice to comply with requirements of the Paperwork Reduction Act (PRA), which requires agencies to submit proposed reporting and recordkeeping requirements to OMB for review and approval, and to publish a notice in the Federal Register notifying the public that the agency has made such a submission. This notice also allows an additional 30 days for public comments.

DATES: Submit comments on or before April 30, 2018.

ADDRESSES: Comments should refer to the information collection by name and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030 curtis.rich@sba.gov.

Copies: A copy of the Form OMB 83-1, supporting statement, and other documents submitted to OMB for review may be obtained from the Agency Clearance Officer.

SUPPLEMENTARY INFORMATION:

Summary of Information Collections

The Small Business Act states that a women-owned small (WOSB) or an economically disadvantaged women-owned small business (EDWOSB) must (1) be a Federal agency, a State government, or a national certifying entity as a WOSB. or, (2) certify to the contracting office that it is a WOSB and provide adequate documentation to support such certification. These documents will be used by the SBA, contracting offices and third party certifies to determine program eligibility and compliance.

(1) Title: Certification for the Women-Owned Small Business Federal Contract Program.

Description of Respondents: Women owned Small Businesses.

Form Number's: 2413, 2414.

Estimated Annual Responses: 16,688.

Estimated Annual Hour Burden: 33,376.

Curtis B. Rich,
Management Analyst.

[FR Doc. 2018-06365 Filed 3-28-18; 8:45 am]

BILLING CODE 8025-01-P